DEPARTMENT OF COMMERCE

International Trade Administration

[A-122-863]

Large Diameter Welded Pipe From Canada: Final Results of Antidumping Duty Administrative Review; 2022-2023

AGENCY: Enforcement and Compliance, International Trade Administration, Department of Commerce.

SUMMARY: The U.S. Department of Commerce (Commerce) determines that the sole producer/exporter subject to this administrative review, Pipe & Piling Supplies Ltd. (Pipe & Piling), made sales of the subject merchandise at less than normal value during the period of review May 1, 2022, through April 30, 2023.

DATES: Applicable October 31, 2024.

FOR FURTHER INFORMATION CONTACT: Anne Entz, AD/CVD Operations, Office IX, Enforcement and Compliance, International Trade Administration, U.S. Department of Commerce, 1401 Constitution Avenue NW, Washington, DC 20230; telephone: (202) 482-3845.

SUPPLEMENTARY INFORMATION:

Background

On May 21, 2024, Commerce published in the Federal Register the Preliminary Results of the aforementioned review.¹ On July 22, 2024, Commerce tolled certain deadlines in this administrative proceeding by seven days.² On August 27, 2024, we extended the deadline for the final results of this review to October 25, 2024.³ Commerce conducted this review in accordance with section 751(a) of the Tariff Act of 1930, as amended (the Act).

¹ See Large Diameter Welded Pipe from Canada: Preliminary Results and Rescission, in Part, of Antidumping Duty Administrative Review; 2022-2023, 89 FR 44635 (May 21, 2024) (Preliminary Results), and accompanying Preliminary Decision Memorandum (PDM).

² See Memorandum, “Tolling of Deadlines for Antidumping and Countervailing Duty Proceedings,” dated July 22, 2024.

³ See Memorandum, “Extension of Deadline for the Final Results of Antidumping Duty Administrative Review,” dated August 27, 2024.

Scope of the Order ⁴

⁴ See Large Diameter Welded Pipe from Canada: Antidumping Duty Order, 84 FR 18775 (May 2, 2019) (Order).

The product subject to the Order is large diameter welded pipe from Canada. A complete description of the scope of the Order is contained in the Issues Decision Memorandum.⁵

⁵ See Memorandum, “Issues and Decision Memorandum for the Final Results of the 2022-2023 Administrative Review of the Antidumping Duty Order on Large Diameter Welded Pipe from Canada,” dated concurrently with, and herby adopted by, this notice (Issues and Decision Memorandum).

Analysis of the Comments Received

All issues raised in the case and rebuttal briefs submitted by interested parties in this review are addressed in the Issues and Decision Memorandum. A list of the issues addressed in the Issues and Decision Memorandum is attached as an appendix to this notice.

Use of Adverse Facts Available (AFA)

As discussed in the Issues and Decision Memorandum, we continue to assign to the mandatory respondent in this administrative review, Pipe & Piling,⁶ an estimated weighted-average dumping margin based on AFA, pursuant to sections 776(a) and (b) of Act.⁷

⁶ In the Preliminary Results, we found that Pipe & Piling is affiliated with 1045761 Ontario Ltd. (Phoenix) and

Spiralco Inc. (Spiralco) and that they should be collapsed and treated as a single entity. See Preliminary Results PDM at 1.

⁷ Id. at 3-11.

Final Results of Review

Commerce determines that the following estimated weighted-average dumping margin exists for the period May 1, 2022, through April 30, 2023:

Producer/exporter | Weighted- average dumping margin (percent)
Pipe & Piling Supplies Ltd.; 1045761 Ontario Ltd.; Spiralco Inc | 50.89

Disclosure

Normally, Commerce will disclose to the parties in a proceeding the calculations performed in connection with a final results of review within five days of any public announcement or, if there is no public announcement, within five days of the date of publication of the notice of final results in the Federal Register, in accordance with 19 CFR 351.224(b). However, because we have made no changes to the application of AFA to Pipe & Piling from the Preliminary Results, there are no calculations to disclose.

Assessment Rates

Pursuant to section 751(a)(2)(C) of the Act, and 19 CFR 351.212(b)(1), Commerce has determined, and U.S. Customs and Border Protection (CBP) shall assess, antidumping duties on all appropriate entries of subject merchandise in accordance with the final results of this review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date in the Federal Register of the final results of this administrative review, as provided by section 751(a)(2)(C) of the Act: (1) the cash deposit rate for Pipe & Piling will be equal to the dumping margin established in the final results of this review; (2) for previously reviewed or investigated companies not listed above, the cash deposit will continue to be the company-specific rate published for the most recently completed segment; (3) if the exporter is not a firm covered in this review or the less-than-fair-value (LTFV) investigation, but the producer is, then the cash deposit rate will be the rate established for the most recent segment for the producer of the merchandise; and (4) the cash deposit rate for all other producers or exporters will continue to be 12.32 percent, the all-others rate established in the LTFV investigation.⁸ These cash deposit requirements, when imposed, shall remain in effect until further notice.

⁸ See Order, 85 FR 18776.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice serves as the only reminder to parties subject to an administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and terms of an APO is a sanctionable violation.

Notification to Interested Parties

This notice is issued and published in accordance with sections 751(a)(1) and 777(i) of the Act.

Dated: October 25, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Discussion of the Issues

Comment 1: Whether To Continue To Apply Adverse Facts Available (AFA) to Pipe & Piling Supplies Ltd. (Pipe & Piling)

Comment 2: Whether To Apply an AFA Rate to Pipe & Piling's POR Entries

V. Recommendation

[FR Doc. 2024-25397 Filed 10-30-24; 8:45 am]

BILLING CODE 3510-DS-P